DEPARTMENT OF ENERGY

Federal Energy Regulatory Commission

Combined Notice of Filings #1

Take notice that the Commission received the following electric corporate filings:

Docket Numbers: EC24-74-000.

Applicants: Kimmel Road Solar, LLC, BCD 2024 Fund 3 Lessee, LLC.

Description: Joint Application for Authorization Under Section 203 of the Federal Power Act of Kimmel Road Solar, LLC, et al.

Filed Date: 4/29/24.

Accession Number: 20240429-5451.

Comment Date: 5 p.m. ET 5/20/24.

Take notice that the Commission received the following exempt wholesale generator filings:

Docket Numbers: EG24-170-000.

Applicants: Peacock Energy Project, LLC.

Description: Peacock Energy Project, LLC submits Notice of Self-Certification of Exempt Wholesale Generator Status.

Filed Date: 4/29/24.

Accession Number: 20240429-5402.

Comment Date: 5 p.m. ET 5/20/24.

Take notice that the Commission received the following electric rate filings:

Docket Numbers: ER10-2354-016.

Applicants: Midway-Sunset Cogeneration Company.

Description: Notice of Non-Material Change in Status of Midway-Sunset Cogeneration Company.

Filed Date: 4/30/24.

Accession Number: 20240430-5258.

Comment Date: 5 p.m. ET 5/21/24.

Docket Numbers: ER16-131-005; ER10-2294-009; ER11-3808-008; ER11-3980-008; ER11-4500-011; ER12-128-009; ER13-413-009; ER13-534-008; ER13-2103-006; ER13-2414-005; ER14-325-008; ER15-2330-005; ER20-2696-000; ER17-737-002; ER17-2471-006; ER17-2472-006; ER17-2548-001; ER18-301-005; ER18-664-006; ER22-645-000; ER18-2214-003; ER18-2216-003; ER18-2435-005; ER19-1047-004; ER20-2977-002; ER22-1882-003; ER22-2178-003; ER22-2799-002; ER22-2800-002; ER22-2801-002; ER23-1238-002; ER23-1239-002; ER23-1773-003; ER24-561-001; ER24-564-001.

Applicants: VESI 12 LLC, VESI 23 LLC, Pomona Energy Storage 2 LLC, USG Nevada LLC, ORNI 36 LLC, VESI 25 LLC, VESI 24 LLC, VESI 21 LLC, ORNI 50 LLC, VESI 10 LLC, ORNI 34 LLC, VESIVEC LLC, ORNI 41 LLC, Plumsted 537 LLC, Stryker 22, LLC., Ormat Dixie Valley LLC, Steamboat Hills LLC, Ormesa LLC, EGP Stillwater Solar PV II, LLC, ONGP LLC, ORNI 43 LLC, Viridity Energy Solutions Inc., VESI Pomona Energy Storage, Inc., ORNI 37 LLC, Enel Cove Fort, LLC, Mammoth Three LLC, ORNI 47 LLC, Mammoth One LLC, USG Oregon LLC, EGP Stillwater Solar, LLC, Enel Stillwater, LLC, ORNI 14 LLC, ORNI 39, LLC, ORNI 18 LLC, Heber Geothermal Company LLC.

Description: Notice of Non-Material Change in Status of Heber Geothermal Company LLC, et al.

Filed Date: 4/25/24.

Accession Number: 20240425-5331.

Comment Date: 5 p.m. ET 5/16/24.

Docket Numbers: ER19-1575-011; ER10-2488-028; ER13-1586-023; ER14-2871-022; ER15-463-021; ER15-621-021; ER15-622-021; ER16-72-017; ER16-182-017; ER16-902-014; ER17-47-014; ER17-48-015; ER18-47-014; ER18-2240-010; ER18-2241-010; ER19-427-010; ER19-1660-010; ER19-1662-010; ER19-1667-010; ER20-71-010; ER20-72-010; ER20-75-010; ER20-76-012; ER20-77-010; ER20-79-010; ER21-1368-006; ER21-1369-007; ER21-1371-007; ER21-1373-008; ER21-1376-008; ER21-2782-007; ER22-149-007; ER22-1439-008; ER22-1440-008; ER22-1441-008; ER22-1442-006; ER22-2419-004; ER22-2420-004; ER23-562-004; ER23-1048-004; ER23-2001-003.

Applicants: Sagebrush ESS II, LLC, Lockhart ESS, LLC, TGP Energy Management II, LLC, Lockhart Solar PV II, LLC, Lockhart Solar PV, LLC, EdSan 1B Group 3, LLC, EdSan 1B Group 2, LLC, EdSan 1B Group 1 Sanborn, LLC, EdSan 1B Group 1 Edwards, LLC, Sagebrush Line, LLC, Sagebrush ESS, LLC, ES 1A Group 3 Opco, LLC, ES 1A Group 2 Opco, LLC, Edwards Sanborn Storage II, LLC, Edwards Sanborn Storage I, LLC, Valley Center ESS, LLC, Voyager Wind IV Expansion, LLC, Painted Hills Wind Holdings, LLC, Tehachapi Plains Wind, LLC, Oasis Alta, LLC, Coachella Wind Holdings, LLC, Coachella Hills Wind, LLC, Terra-Gen VG Wind, LLC, Mojave 16/17/18 LLC, Mojave 3/4/5 LLC, LUZ Solar Partners IX, Ltd., Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC, TGP Energy Management, LLC, Oasis Power Partners, LLC, Alta Oak Realty, LLC.

Description: Notice of Non-Material Change in Status of Alta Oak Realty, LLC, et al.

Filed Date: 4/26/24.

Accession Number: 20240426-5391.

Comment Date: 5 p.m. ET 5/17/24.

Docket Numbers: ER22-2116-005; ER22-2115-005.

Applicants: Timber Road Solar Park LLC, Blue Harvest Solar Park LLC.

Description: Notice of Change in Status of Blue Harvest Solar Park LLC, et al.

Filed Date: 4/29/24.

Accession Number: 20240429-5352.

Comment Date: 5 p.m. ET 5/20/24.

Docket Numbers: ER23-1584-002.

Applicants: Pearl River Solar Park LLC.

Description: Notice of Non-Material Change in Status of Pearl River Solar Park LLC.

Filed Date: 4/29/24.

Accession Number: 20240429-5354.

Comment Date: 5 p.m. ET 5/20/24.

Docket Numbers: ER24-55-002.

Applicants: Silver Peak Energy, LLC.

Description: Notice of Change in Status of Silver Peak Energy, LLC.

Filed Date: 4/29/24.

Accession Number: 20240429-5454.

Comment Date: 5 p.m. ET 5/20/24.

Docket Numbers: ER24-1376-001.

Applicants: Yuma Solar Energy LLC.

Description: Tariff Amendment: Response to Request for Additional Information to be effective 3/1/2024.

Filed Date: 4/30/24.

Accession Number: 20240430-5001.

Comment Date: 5 p.m. ET 5/21/24.

Docket Numbers: ER24-1865-000.

Applicants: GridLiance West LLC.

Description: § 205(d) Rate Filing: GridLiance West VEA Upgrades CWIP filing to be effective 6/28/2024.

Filed Date: 4/29/24.

Accession Number: 20240429-5325.

Comment Date: 5 p.m. ET 5/20/24.

Docket Numbers: ER24-1866-000.

Applicants: Power Authority of the State of New York, New York Independent System Operator, Inc.

Description: § 205(d) Rate Filing: Power Authority of the State of New York submits tariff filing per 35.13(a)(2)(iii: NYPA Section 205 filing of formula rate template revisions to be effective 7/1/2024.

Filed Date: 4/29/24.

Accession Number: 20240429-5336.

Comment Date: 5 p.m. ET 5/20/24.

Docket Numbers: ER24-1867-000.

Applicants: Puget Sound Energy, Inc.

Description: § 205(d) Rate Filing: Certificate of Concurrence and a Tariff Record SA 5105 to be effective 4/12/2024.

Filed Date: 4/29/24.

Accession Number: 20240429-5348.

Comment Date: 5 p.m. ET 5/20/24.

Docket Numbers: ER24-1868-000

Applicants: El Paso Electric Company.

Description: Compliance filing: OATT Attachment M and N revisions to be effective 6/3/2024.

Filed Date: 4/30/24.

Accession Number: 20240430-5002.

Comment Date: 5 p.m. ET 5/21/24.

Docket Numbers: ER24-1869-000.

Applicants: VESI Pomona Energy Storage, Inc.

Description: § 205(d) Rate Filing: Revisions to Market-Based Rate Tariffs to be effective 6/30/2024.

Filed Date: 4/30/24.

Accession Number: 20240430-5011.

Comment Date: 5 p.m. ET 5/21/24.

Docket Numbers: ER24-1870-000.

Applicants: USG Nevada LLC.

Description: § 205(d) Rate Filing: Revisions to Market-Based Rate Tariffs to be effective 6/30/2024.

Filed Date: 4/30/24.

Accession Number: 20240430-5012.

Comment Date: 5 p.m. ET 5/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 30, 2024.
Debbie-Anne A. Reese,
Acting Secretary.

[FR Doc. 2024-09837 Filed 5-6-24; 8:45 am]

BILLING CODE 6717-01-P